DEPARTMENT OF DEFENSE

Department of the Army, Corps of Engineers

Occupational Safety and Health Programs for Federal Employees

AGENCY: U.S. Army Corps of Engineers, DoD.

ACTION: Notice; request for comments.

SUMMARY: The U.S. Army Corps of Engineers (USACE) Safety and Health Requirements Manual (EM 385-1-1) is the gold standard for Safety and Occupational Health regulations. The manual holds a long history dating back to 1941 and is designed to facilitate the standardization of all safety programs. The EM 385-1-1 prescribes the safety and health requirements for all Corps of Engineers activities and operations. The USACE is soliciting comments on the proposed revisions to EM 385-1-1.

DATES: Consideration will be given to all comments received by January 30, 2020.

ADDRESSES:

Electronic: You may submit comments concerning the EM 385-1-1 electronically by accessing the USACE Safety and Occupational Office website at the following location: https://www.usace.army.mil/missions/safety-and-occupational-health/next-gen-em385-1-1/. Follow the instructions at the listed website where comments will be collected and reviewed.

Mail/Hand Delivery/Courier: Due to security requirements and tracking, we will not accept or receive comments by hand delivery or courier. Comments for considerations will only be accepted by electronic submission.

FOR FURTHER INFORMATION CONTACT: Steven Washington, Headquarters, U.S. Army Corps of Engineers, Safety and Occupational Health Office, in Washington, DC at 202-761-7678.

SUPPLEMENTARY INFORMATION: Executive Order (E.O.) 12196, Occupational Safety and Health Programs for Federal Employees, was issued in 1980 and directed agencies heads to (1) Furnish to employees places and conditions of employment that are free from recognized hazards that are causing or are likely to cause death or serious physical harm; (2) Operate an occupational safety and health program in accordance with the requirements of this order and basic program elements promulgated by the Secretary. DoDI 6055.1 was issued in 2014 (incorporated changes in 2018) and the DoD policy. Following issuance of DoD Safety and Occupational Health (SOH) Program DODI 6055.01; the AR-385-10, Army Safety Program implements the requirements of the Occupational Safety and Health Act of 1970 as implemented in E.O. 12196; 29 CFR 1960; DODI 6055.1; DoDI 6055.4; and DoDI 6055.7. Following the issuance of the AR-385-10; the EM 385-1-1 U.S. Army Corps of Engineers Safety and Health Requirements Manual prescribes the safety and health requirements for all Corps of Engineers activities and operations. The manual applies to Headquarters, US Army Corps of Engineers (HQUSACE) elements, major subordinate commands, districts, centers, laboratories, and field operating activities (FOA), as well as USACE contracts and those administered on behalf of USACE. Applicability extends to occupational exposure for missions under the command of the Chief of Engineers, whether accomplished by military, civilian, or contractor personnel. USACE intends to update the manual within two years, and periodically thereafter, to reflect such public input, experience, and innovation. The agency will address significant comments received in the next revision of this manual. All comments are welcomed and encouraged for any section of the EM 385-1-1, Safety and Health Requirements Manual. All suggestions such as additions, deletions, or revisions will be considered and reviewed by established EM 385-1-1 Rewrite PDT for adjudication. A process was created to clarify the information needed to make a suggestion and to minimize the burden of the information collected. The goal of the collection notice is to notify all external stakeholders that the USACE Safety and Health Requirements Manual is under review. In addition, the Corps created an inclusive process that will allow stakeholders to provide comments and recommendations that will be considered in the updated version of the manual. All input and comments received will help improve the overall quality of the EM 385-1-1 which will prevent injuries and save lives.

Instructions for Providing Comments

USACE is requesting assistance in the form of data, comments, literature references, or field experiences, to help clarify the policy requirements for implementing Safety and Occupational Health activities for both Corps and contractor personnel. The current version of the Safety and Health Requirements Manual (EM 385-1-1, Nov 2014) is available for review on the USACE Publications website https://www.publications.usace.army.mil/Portals/76/Publications/EngineerManuals/EM_385-1-1.pdf). Additionally, a series of questions has been provided for reviewers to consider as they evaluate the document. While USACE welcomes any and all feedback on this Engineering Manual, detailed responses to the questions provided will be particularly helpful to USACE in clarifying, revising, adding, or deleting information in a particular area/section/chapter. The most useful comments will be derived from on-the-job experiences that are covered within the topics of the manual. Commenters should use their knowledge of working with USACE on various types of federal actions as well as their understanding of consensus standards and other federal Safety and Health regulations.

Comments and responses based on the current version of the Safety and Health Requirements Manual (EM 385-1-1, Nov 2014) and the guiding questions are being accepted through the website only. Literature citations, experiential references, data, and other relevant reports may be uploaded on the website with all comments prior to submission. All comments will be compiled and sent to the EM 385-1-1 Rewrite PDT for their consideration.

Future Actions

Feedback and comments provided through this notice will be considered and the current version of the Safety and Health Requirements Manual (EM 385-1-1, Nov 2014) will be updated as appropriate. When the manual is finalized and published, a notice will be placed in the Federal Register, on the USACE Safety and Occupational Health Office website, and the document itself will be made available through the typical publication process.

Dated: November 26, 2019.
R.D. James,
Assistant Secretary of the Army (Civil Works).

[FR Doc. 2019-26275 Filed 12-4-19; 8:45 am]

BILLING CODE 3720-58-P